DEPARTMENT OF THE INTERIOR

National Indian Gaming Commission

25 CFR Part 547

Technical Standards for Electronic, Computer, or Other Technologic Aids Used in the Play of Class II Games

AGENCY: National Indian Gaming Commission (NIGC), Interior.

ACTION: Notice of Extension of Comment Period.

SUMMARY: This notice extends the period for comments on the burden, estimates or any other aspects of the information collection requirements of the proposed Class II technical standards (72 FR 60508) published in the Federal Register on October 24, 2007.

DATES: The comment period for comments submitted to the Office of Management and Budget, Office of Information and Regulatory Affairs, or the NIGC on the burden, estimates or any other aspects of the information collection requirements for the proposed Class II technical standards regulations is extended from December 10, 2007, to January 24, 2008.

FOR FURTHER INFORMATION CONTACT: Michael Gross at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On October 24, 2007, the proposed Class II technical standards (72 FR 60508) regulations were published in the Federal Register.

Dated: November 20, 2007.
Philip N. Hogen,
Chairman, National Indian Gaming Commission.
Cloyce V. Choney,
Vice Chairman, National Indian Gaming Commission.
Norman H. DesRosiers,
Commissioner, National Indian Gaming Commission.

[FR Doc. E7-23083 Filed 11-27-07; 8:45 am]

BILLING CODE 7565-01-P